DEPARTMENT OF THE INTERIOR

Bureau of Land Management

[LLIDT03100.L17110000.DO0000.241A.00]

Notice of Intent To Amend the Management Plan for the Craters of the Moon National Monument and Preserve and To Prepare an Associated Environmental Impact Statement, ID

AGENCY: Bureau of Land Management, Interior.

ACTION: Notice of Intent.

SUMMARY: In compliance with the National Environmental Policy Act of 1969, as amended (NEPA), and the Federal Land Policy and Management Act of 1976, as amended (FLPMA), the Bureau of Land Management (BLM) Shoshone Field Office, Shoshone, Idaho, intends to prepare a Land Use Plan amendment (Plan amendment) with an associated Environmental Impact Statement (EIS) for the Craters of the Moon National Monument and Preserve (Craters of the Moon). This notice announces the beginning of the scoping process for the Plan amendment and associated EIS to solicit public comments and identify issues.

DATES: Comments on issues related to management of livestock grazing and conservation measures for sage-grouse in the Craters of the Moon may be submitted in writing until July 29, 2013. The date(s) and location(s) of any scoping meetings will be announced at least 15 days in advance through local media, newspapers and the BLM Web site http://www.blm.gov/id/st/en/prog/blm_special_areas/craters_of_the_moon.html.

To be included in the analysis, all comments must be received prior to the close of the 30-day scoping period or 30 days after the last public meeting, whichever is later. We will provide additional opportunities for public participation as appropriate.

ADDRESSES: You may submit comments on issues and planning criteria related to the Craters of the Moon Plan amendment by any of the following methods:

• Web site: http://www.blm.gov/id/st/en/prog/blm_special_areas/craters_of_the_moon.html.

• Email: BLM_ID_CRMO@blm.gov.

• Fax: 208-732-7317.

• Mail: 400 West F Street, Shoshone, ID 83352.

Documents pertinent to this proposal may be examined at the Shoshone Field Office or online at http://www.blm.gov/id/st/en/prog/planning.html.

FOR FURTHER INFORMATION CONTACT: Holly Hampton, Monument Manager, telephone 208-732-7200; address 400 West F Street, Shoshone, ID 83352; email BLM_ID_CRMO@blm.gov. Contact Ms. Hampton if you wish to have your name added to our mailing list. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM Shoshone Field Office, Shoshone, Idaho, intends to prepare a Plan amendment with an associated EIS for the Craters of the Moon Management Plan. This notice announces the beginning of the scoping process and seeks public input on issues and planning criteria. The planning area is located in south central Idaho and encompasses approximately 750,000 acres of BLM and National Park Service (NPS) managed lands in the Craters of the Moon. The purpose of the public scoping process is to determine relevant issues that will influence the scope of the environmental analysis, including alternatives, and guide the planning process.

In 2008, Western Watersheds Project (WWP) filed a complaint in the United States District Court for the District of Idaho (Court) alleging the Secretary of the Interior and the BLM violated NEPA and FLPMA when the BLM issued Records of Decision on 16 Resource Management Plans (RMP) between 2004 and 2008, including the Craters of the Moon Management Plan. After briefing and oral argument, the Court found that although livestock grazing was deemed by the agency to be a major contributing factor to the decline of sage-grouse habitat in the Craters of the Moon, the Management Plan/EIS failed to adequately address the best science and the agency's own policies designed to protect that habitat. Moreover, the Management Plan/EIS failed to discuss alternatives to the status quo regarding livestock grazing in Craters of the Moon. Specifically, the Court found that the EIS supporting the Management Plan violated NEPA and FLPMA by failing to: (1) Consider a no-grazing alternative; (2) Consider the recommendations for sage-grouse conservation contained within a 2004 Nature Conservancy Report and the 2004 Western Association of Fish and Wildlife Agencies Conservation Assessment; (3) Fully discuss the agency's Special Status Species Policy and National Sage Grouse Habitat Conservation Strategy; and (4) Consider any alternative that would have reduced grazing levels. In November 2012, the Court remanded all issues concerning the Craters of the Moon Management Plan to the BLM, without vacatur, for the purpose of revising the Management Plan. Accordingly, through the amendment process announced in this Notice, the BLM will analyze a no-grazing alternative and reduced grazing alternative(s) for BLM-managed lands within the Craters of the Moon.

The BLM's ongoing Idaho and Southwestern Montana Sub-Regional EIS/RMP amendment process (Sub-Regional EIS/RMP amendment) will address measures for sage-grouse conservation and is expected to result in a plan amendment to the existing Craters of the Moon Management Plan. The BLM anticipates that the Sub-Regional EIS/RMP amendment effort will be completed in the fall of 2014. The amendment announced in this Notice is expected to primarily address issues related to management of livestock grazing in the Craters of the Moon planning area. However, the BLM may also address additional issues relating to the conservation measures for sage-grouse identified in the U.S. District Court's Orders that are not addressed in the Sub-Regional EIS/RMP amendment process.

The BLM has identified the following preliminary issues: The need to comply with the Idaho District Court's September 28, 2011, and November 20, 2012, Orders by analyzing Land Use Plan-level grazing allocations, including a no grazing alternative and a reduced grazing alternative in Craters of the Moon; and the need to develop conservation measures for sage-grouse in Craters of the Moon. Preliminary planning criteria include: Compliance with FLPMA, NEPA, and all other relevant Federal law, Executive orders, and management policies of the BLM; valid existing rights will be recognized; and Native American Tribal consultations will be conducted in accordance with policy and tribal concerns will be given due consideration.

You may submit comments to the BLM on issues and planning criteria for the plan amendment at any public scoping meeting, or you may submit them using one of the methods listed in the ADDRESSES section above. The public is encouraged to help identify concerns specifically related to livestock grazing and sage-grouse conservation that should be addressed during the plan amendment process. To be most helpful, you should submit comments by the close of the 30-day scoping period or within 30 days after the last public meeting, whichever is later.

The BLM will use the NEPA public participation requirements to assist the agency in satisfying the public involvement requirements under Section 106 of the National Historic Preservation Act (NHPA) (16 U.S.C. 470(f)) pursuant to 36 CFR 800.2(d)(3). The information about historic and cultural resources within the area potentially affected by the proposed action will assist the BLM in identifying and evaluating impacts to such resources in the context of both NEPA and Section 106 of the NHPA.

The BLM will consult with Indian tribes on a government-to-government basis in accordance with Executive Order 13175 and other policies. Federal, State, and local agencies, along with tribes and other stakeholders that may be interested in or affected by the proposed action that the BLM is evaluating, are invited to participate in the scoping process.

Before including your address, phone number, email address, or other personal identifying information in your comment, you should be aware that your entire comment—including your personal identifying information—may be made publicly available at any time. While you can ask us in your comment to withhold your personal identifying information from public review, we cannot guarantee that we will be able to do so. The BLM will evaluate all submissions and identify issues to be addressed in the Plan amendment.

The BLM will use an interdisciplinary approach to develop the Plan amendment. Specialists with expertise in the following disciplines will be involved in the planning process: rangeland management, outdoor recreation, archaeology, wildlife, botany, fire ecology, and soils.

Authority: 40 CFR 1501.7 and 43 CFR 1610.5-5(b).

Holly Hampton,
Monument Manager.

[FR Doc. 2013-15512 Filed 6-27-13; 8:45 am]

BILLING CODE 4310-GG-P